SOCIAL SECURITY ADMINISTRATION

[Docket No. SSA-2017-0034]

Rescission of Social Security Rulings Related to Special Payments at Age 72

AGENCY: Social Security Administration.

ACTION: Notice of rescission of Social Security Rulings.

SUMMARY: In accordance with 20 CFR 402.35(b)(1), the Acting Commissioner of Social Security gives notice of the rescission of Social Security Rulings (SSR): SSR 67-28; SSR 68-13; SSR 68-36; SSR 68-37; SSR 68-52; SSR 68-78; SSR 70-23c; SSR 72-27; and SSR 74-27c.

DATES: The rescission is effective May 10, 2018.

FOR FURTHER INFORMATION CONTACT: Linda Appler, Social Security Administration, (410) 966-6760 or Regulations@ssa.gov. For information on eligibility or filing for benefits, call our national toll-free number, 1-800-772-1213 or TTY 1-800-325-0778, or visit our internet site, Social Security Online, at http://www.socialsecurity.gov.

SUPPLEMENTARY INFORMATION: Although 5 U.S.C. 552(a)(1) and (a)(2) do not require us to publish this notice, we are doing so in accordance with 20 CFR 402.35(b)(1).

Through SSRs, we make available to the public precedential decisions relating to the Federal old-age, survivors, disability, supplemental security income, and special veterans benefits programs. We may base SSRs on determinations or decisions made at all levels of administrative adjudication, Federal court decisions, Commissioner's decisions, opinions of the Office of the General Counsel, or other interpretations of the law and regulations.

We are rescinding the following SSRs:

• SSR 67-28: Section 228(c)(1) and (h)(2).—Special Age 72 Payments For Uninsured Individuals—Reduction Because Of Eligibility For Governmental Pension;

• SSR 68-13: Sections 228(c)(1) and 228(h)(2).—Special Age 72 Payments—Governmental Pension System—Teachers' Retirement Fund;

• SSR 68-36: Section 228(c) and 228(h)(2).—Special Age 72 Payment—Reduction Because Of Eligibility For Veterans' Administration Pension;

• SSR 68-37: Section 228(c) and (h).—Special Age 72 Payment—Eligibility For Teacher's Annuity Purchased From Personal Funds Not Cause For Offset;

• SSR 68-52: Sections 228(c)(1), 228(h)(2) and (3).—Special Age 72 Payments For Uninsured Individual—Reduction Due To Commutation Of Periodic Pension;

• SSR 68-78: Sections 228(c)(1) and (h)(2).—Special Age 72 Payments For Uninsured Individuals—Reduction Because Of Eligibility For Governmental Pension;

• SSR 70-23c: Section 228(c).—Special Age 72 Payments—Effect On Claimant's Eligibility Where Application Not Filed By Spouse Who Is Eligible For Periodic Benefit Under Governmental Pension System;

• SSR 72-27: Sections 228 (of Social Security Act) and 103 of Social Security Amendments of 1965.—Special Age 72 and Hospital Insurance Benefits—5 Years Continuous Residence Requirement; and

• SSR 74-27c: Sections 205(g), 228(a) and (e) (42 U.S.C. 405(g), 428(a), and 428(e)).—Special Age 72 Payments—Application and Residence Requirements—Constitutionally [sic] as to Puerto Rican Residents.

These SSRs interpret and apply our rules on “Special Payments at Age 72” in 20 CFR 404.380, 404.381, 404.382, 404.383, and 404.384. In today's Federal Register, we published a final rule that removes our “Special Payments at Age 72” rules, and revises other rules that refer to special age 72 payments. As we explain in that final rule, we are removing our rules on special age 72 payments because they are obsolete and no longer needed. We are rescinding these SSRs for the same reason.

(Catalog of Federal Domestic Assistance, Programs Nos. Social Security—Retirement Insurance; 96.004, Social Security—Survivors Insurance.)

Nancy A. Berryhill,
Acting Commissioner of Social Security.

[FR Doc. 2018-09911 Filed 5-9-18; 8:45 am]

BILLING CODE 4191-02-P